DEPARTMENT OF COMMERCE

Foreign-Trade Zones Board

[Order No. 2164]

Reorganization and Expansion of Foreign-Trade Zone 96 Under Alternative Site Framework; Eagle Pass, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the City of Eagle Pass, grantee of Foreign-Trade Zone 96, submitted an application to the Board (FTZ Docket B-4-2024, docketed January 16, 2024) for authority to reorganize and expand under the ASF with a service area of Maverick County, Texas, in and adjacent to the Eagle Pass Customs and Border Protection port of entry, FTZ 96's existing Sites 1, 2 and 4 would be removed from the zone and modified Site 3 would be categorized as a magnet site;

Whereas, notice inviting public comment was given in the Federal Register (89 FR 3909-3910, January 22, 2024) and the application has been processed pursuant to the FTZ Act and the Board's regulations; and,

Whereas, the Board adopts the findings and recommendations of the examiners' report, and finds that the requirements of the FTZ Act and the Board's regulations are satisfied;

Now, therefore, the Board hereby orders:

The application to reorganize and expand FTZ 96 under the ASF is approved, subject to the FTZ Act and the Board's regulations, including section 400.13, and to the Board's standard 2,000-acre activation limit for the zone.

Dated: June 28, 2024.
Dawn Shackleford,
Executive Director of Trade Agreements Policy & Negotiations, Alternate Chairman, Foreign-Trade Zones Board.

[FR Doc. 2024-14661 Filed 7-2-24; 8:45 am]

BILLING CODE 3510-DS-P